DEPARTMENT OF ENERGY

Federal Energy Regulatory Commission

Combined Notice of Filings #2

Take notice that the Commission received the following electric rate filings:

Docket Numbers: ER15-1065-000.

Applicants: Balko Wind, LLC.

Description: Supplement to February 18, 2015 Balko Wind, LLC tariff filing.

Filed Date: 3/27/15.

Accession Number: 20150327-5238.

Comments Due: 5 p.m. ET 4/10/15.

Docket Numbers: ER15-1394-000.

Applicants: Midcontinent Independent System Operator, Inc.

Description: Section 205(d) rate filing per 35.13(a)(2)(iii): 2015-03-27_Add ALP Utilities to Sch 7,8,9 to be effective 6/1/2015.

Filed Date: 3/27/15.

Accession Number: 20150327-5250.

Comments Due: 5 p.m. ET 4/17/15.

Docket Numbers: ER15-1395-000.

Applicants: Midcontinent Independent System Operator, Inc.

Description: Section 205(d) rate filing per 35.13(a)(2)(iii): 2015-03-27_SA 6509 White Pine 2 SSR Termination to be effective 4/15/2015.

Filed Date: 3/27/15.

Accession Number: 20150327-5291.

Comments Due: 5 p.m. ET 4/17/15.

Docket Numbers: ER15-1396-000.

Applicants: Midcontinent Independent System Operator, Inc.

Description: Section 205(d) rate filing per 35.13(a)(2)(iii): 2015-03-27_Cancel Schedule 43I White Pine 2 SSR to be effective 4/15/2015.

Filed Date: 3/27/15.

Accession Number: 20150327-5293.

Comments Due: 5 p.m. ET 4/17/15.

Docket Numbers: ER15-1397-000.

Applicants: Aspen Merchant Energy, LP.

Description: Tariff Withdrawal per 35.15: Aspen Merchant Energy, LP Notification of Cancellation to be effective 3/27/2015.

Filed Date: 3/27/15.

Accession Number: 20150327-5298.

Comments Due: 5 p.m. ET 4/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2015.
Nathaniel J. Davis, Sr.,
Deputy Secretary.

[FR Doc. 2015-07689 Filed 4-2-15; 8:45 am]

BILLING CODE 6717-01-P